DEPARTMENT OF THE TREASURY

Office of Thrift Supervision

Irwin Union Bank, F.S.B., Louisville, KY; Notice of Appointment of Receiver

Notice is hereby given that, pursuant to the authority contained in section 5(d)(2) of the Home Owners' Loan Act, the Office of Thrift Supervision (OTS) has duly appointed the Federal Deposit Insurance Corporation as sole Receiver for Irwin Union Bank, F.S.B., Louisville, Kentucky (OTS No. 16835), on September 18, 2009.

Dated: October 2, 2009.
By the Office of Thrift Supervision.
Sandra E. Evans,
Federal Register Liaison.

[FR Doc. E9-24285 Filed 10-7-09; 8:45 am]

BILLING CODE 6720-01-M